NATIONAL AERONAUTICS AND SPACE ADMINISTRATION

[Notice: (21-085)]

Privacy Act of 1974; System of Records

AGENCY: National Aeronautics and Space Administration (NASA).

ACTION: Rescindment of a system of records notice.

SUMMARY: Pursuant to the provisions of the Privacy Act of 1974 the National Aeronautics and Space Administration is giving notice that it proposes to cancel its Locator and Information Services Tracking System (LISTS)/GSFC 51LISTS that contains records used at Goddard Space Flight Center to assist the Security Office in issuing identification badges and coordinating clearance requests; to identify emergency contacts in case of an emergency involving to Center employees or guest workers; and to reach employees or guest workers if necessary during off hours.

DATES: Submit comments within 30 calendar days from the date of this publication. The changes will take effect at the end of that period, if no adverse comments are received.

ADDRESSES: Patti F. Stockman, Privacy Act Officer, Office of the Chief Information Officer, Mary W. Jackson NASA Headquarters, Washington, DC 20546-0001, (202) 358-4787, NASA-PAOfficer@nasa.gov.

FOR FURTHER INFORMATION CONTACT: NASA Privacy Act Officer, Patti F. Stockman, (202) 358-4787, NASA-PAOfficer@nasa.gov.

SUPPLEMENTARY INFORMATION: NASA will continue to maintain these records, but the Agency has determined that records of NASA 10LISTS are adequately covered by its Security Records System Notice, NASA 10SECR, last published at 15-068, 80 FR 193, pp. 60410-60411.

SYSTEM NAME AND NUMBER:

Locator and Information Services Tracking System (LISTS), GSFC 51LISTS.

HISTORY:

(07-081, 72 FR 189, pp. 55817—55833)

Cheryl Parker,
Federal Register Liaison Officer.

[FR Doc. 2021-27040 Filed 12-13-21; 8:45 am]

BILLING CODE 7510-13-P